DEPARTMENT OF TRANSPORTATION

Federal Aviation Administration

First Meeting: RTCA Special Committee 224: Airport Security Access Control Systems

AGENCY: Federal Aviation Administration (FAA), DOT.

ACTION: Notice of RTCA Special Committee 224 meeting: Airport Security Access Control Systems (Update to DO-230B).

SUMMARY: The FAA is issuing this notice to advise the public of a meeting of RTCA Special Committee 224: Airport Security Access Control Systems.

DATES: The meeting will be held November 2, 2010, from 10 a.m. to 5 p.m.

ADDRESSES: The meeting will be held at RTCA, Inc., 1828 L Street, NW., Suite 805, MacIntosh-NBAA Room and Hilton-ATA Room, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 224: Airport Security Access Control Systems (Update to DO-230B):

November 2, 2010

• Welcome/Introductions/Administrative Remarks

• Agenda Overview

• RTCA Functional Overview

• Previous Committee History

• Current Committee Scope, Terms of Reference Overview (Presentation)

• Discussion of Terms of Reference for This Update

• Discussion of Scope/Areas for This Update

• Organization of Work, Assign Tasks and Workgroups

• Presentation, Discussion, Recommendations

• Assignment of Responsibilities

• Other Business

• Establish Agenda for Next Meeting

• Date and Place of Next Meeting

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 30, 2010.
Robert L. Bostiga,
RTCA Advisory Committee.

[FR Doc. 2010-25203 Filed 10-5-10; 8:45 am]

BILLING CODE 4910-13-P